NUCLEAR REGULATORY COMMISSION

Southern Nuclear Operating Company, Inc., Georgia Power Company, Oglethorpe Power Corporation, Municipal Electric Authority of Georgia; City of Dalton, GA

[Docket Nos. 50-321 and 50-366 ]

Notice of Consideration of Issuance of Amendment To Facility Operating License, Proposed No Significant Hazards Consideration Determination, and Opportunity for a Hearing

The U.S. Nuclear Regulatory Commission (the Commission) is considering issuance of an amendment to Facility Operating License Nos. DPR-57 and NPF-5 issued to the licensee for operation of the Edwin I. Hatch Nuclear Plant, Unit Nos. 1 and 2, (HNP) located in Appling County, Georgia. The proposed amendment includes two actions, as follows.

First, the proposed amendment would respond to existing license condition 2.C(8), “Design Bases Accident Radiological Consequences Analyses,” by revising the licensing and design basis, including the Technical Specifications (TS), for four design basis accidents (DBAs): the loss-of-coolant, main steamline break, control rod drop and fuel handling accidents. The radiological consequences of these DBAs are reanalyzed using an alternative source term (AST) methodology, pursuant to Title 10 of the Code of Federal Regulations, Section 50.67, “Accident Source Term,” (10 CFR 50.67) and allowing credit in the analyses for the function of certain systems such as the turbine building ventilation system, standby liquid control system, the main steam isolation valve alternate leakage treatment (ALT) path, and residual heat removal drywell spray system. The licensee states that the AST analyses include determination of the on-site radiological doses, specifically the main control room, technical support center and off-site radiological doses resulting from the DBA analyses. The licensee states that the analyses demonstrate that, using AST methodologies, the post-accident onsite and offsite doses remain within regulatory acceptance limits. Notice of this action was previously published in the Federal Register on May 6, 2008 (73 FR 25046). This renoticing of this action is provided to include further supplements to the licensee's August 29, 2006 application, that are dated April 1, May 5, June 25 and July 14, 2008, that were submitted subsequent to the Federal Register Notice of May 6, 2008. This renotice replaces and supersedes the Federal Register Notice of May 6, 2008, in its entirety. The second action would be modification of license condition 2.C(8) to extend the implementation date of May 31, 2010 until May 31, 2012 for HNP unit 1 and until May 31, 2011 for HNP unit 2, as discussed in the licensee's letter of July 2, 2008.

Before issuance of the proposed license amendment, the Commission will have made findings required by the Atomic Energy Act of 1954, as amended (the Act), and the Commission's regulations.

The Commission has made a proposed determination that the amendment request involves no significant hazards consideration. Under the Commission's regulations in Title 10 of the CODE OF FEDERAL REGULATIONS (10 CFR), Section 50.92, this means that operation of the facility in accordance with the proposed amendment would not (1) involve a significant increase in the probability or consequences of an accident previously evaluated; or (2) create the possibility of a new or different kind of accident from any accident previously evaluated; or (3) involve a significant reduction in a margin of safety. Based on the following information as provided in the licensee's submittals for the first action identified above, the Nuclear Regulatory Commission (NRC) staff proposes to determine the following with respect to the three criteria above:

1. Does the proposed change involve a significant increase in the probability or consequences of an accident previously evaluated?

Adoption of the AST methodology and allowing credit in the accident analyses for those plant systems affected by implementing AST are not expected to initiate DBAs. The revised accident source term is an input to the radiological consequence analyses. The implementation of the AST and changed TS have been incorporated in the analyses for the limiting DBAs at HNP. The structures, systems, and components affected by the proposed change are mitigative in nature and would be relied upon after an accident has been initiated. Based on the revised analyses, the proposed changes to the TS (including revised leakage limits) impose certain performance criteria on existing systems that do not increase accident initiation probability. The proposed changes do not involve a revision to the parameters or conditions that could contribute to the initiation of a DBA as discussed in Chapter 15 of the Unit 2 Final Safety Analysis Report. Therefore, the proposed change does not result in an increase in the probability of an accident previously identified. Plant specific AST radiological analyses have been performed and, based on the results of these analyses, the licensee has demonstrated that the dose consequences of the limiting events considered in the analyses are within the regulatory guidance provided by the NRC for use with the AST as provided in 10 CFR 50.67, Regulatory Guide 1.183, Alternative Radiological Source Terms for Evaluating Design Basis Accidents at Nuclear Power Reactors (ML003716792) and Standard Review Plan, Section 15.0.1. Therefore, the proposed changes do not result in a significant increase in the consequences of an accident previously evaluated.

2. Does the proposed change create the possibility of a new or different kind of accident from any previously evaluated?

The use of AST methodology and the implementation of limited changes to structures, systems or components (SSC) to support that methodology, does not alter or involve any design basis accident initiators. No major SSCs are added to or removed from the HNP design. The limited changes in the design of existing SSCs needed to enable crediting their function in currently postulated DBAs and the addition of further TS are intended to enhance the assurance that these SSCs will perform their mitigative function in the event of a DBA. Since the operation of the SSCs will not be significantly changed after the AST implementation, no new failure modes are created by this proposed change. Therefore, the proposed change does not create the possibility of a new or different kind of accident from any previously evaluated.

3. Does the proposed change involve a significant decrease in the margin of safety?

The principal changes in the licensing and design bases for this amendment are associated with demonstrating that the radiological consequences of DBAs meet applicable NRC regulatory criteria, as discussed in criterion 1 above. The licensee states that the analyzed events have been carefully selected, and the analyses supporting these changes have been performed using approved methodologies and conservative inputs to ensure that analyzed events are bounding and safety margin has been retained. The licensee also states that the dose consequences of these limiting events are within the acceptance criteria presented in 10 CFR 50.67, Regulatory Guide 1.183, and Standard Review Plan 15.0.1 and that, because the proposed changes continue to result in dose consequences within the applicable regulatory limits, the changes are considered to not result in a significant reduction in the margin of safety.

As required by 10 CFR 50.91(a), for the second issue identified above, the licensee has provided, in its letter dated July 2, 2008, its analysis of the issue of no significant hazards consideration, which is presented below:

1. Does the proposed change involve a significant increase in the probability or consequences of an accident previously evaluated?

This proposed change will authorize SNC to credit [potassium iodide] KI for an extended period in the DBA radiological consequences analyses to address the impact of [main control room] MCR unfiltered inleakage. This proposed change does not result in any functional or operational change to any systems, structures, or components and has no impact on any assumed initiator of any analyzed accident. Therefore, the proposed change does not result in an increase in the probability of an accident previously evaluated.

This proposed change does not introduce any additional method of mitigating the thyroid dose to MCR occupants in the event of a loss-of-coolant accident (LOCA) since the existing license condition has already introduced this method as part of the licensing basis for an interim period of time. The updated LOCA MCR radiological dose, considering 110 [cubic feet per minute] cfm unfiltered inleakage and crediting KI, continues to meet GDC 19 acceptance limits. In the context of the current licensing basis with MCR unfiltered inleakage considered, LOCA continues to be the limiting event for radiological exposures to the operators in the MCR. Radiological doses to MCR occupants are within the regulatory limits of GDC 19 with MCR unfiltered inleakage up to 1000 cfm without the crediting of KI for the main steam line break accident (MSLB), control rod drop accident (CRDA), and fuel handling accident (FHA). Therefore, the proposed change does not result in a significant increase in the consequences of an accident previously evaluated.

2. Does the proposed change create the possibility of a new or different kind of accident from any previously evaluated?

This proposed change will authorize SNC to credit KI for an extended period in the DBA radiological consequences analyses to address the impact of MCR unfiltered inleakage. This proposed change does not result in any functional or operational change to any systems, structures, or components. Therefore, the proposed change does not create the possibility of a new or different kind of accident from any previously evaluated.

3. Does the proposed change involve a significant decrease in the margin of safety?

This proposed change will authorize SNC to credit KI for an extended period in the DBA radiological consequences analyses to address the impact of MCR unfiltered inleakage. This proposed change does not result in any functional or operational change to any systems, structures, or components. This proposed change extends the use of an additional method of mitigating the thyroid dose to MCR occupants in the event of a LOCA until May 31, 2012. The updated LOCA MCR radiological dose, considering 110 cfm unfiltered inleakage and crediting KI, continues to meet GDC 19 acceptance limits. In the context of the current licensing basis with MCR unfiltered inleakage considered, LOCA continues to be the limiting event for radiological exposures to the operators in the MCR. Radiological doses to MCR occupants are within the regulatory limits of GDC 19 with MCR unfiltered inleakage of up to 1000 cfm without the crediting of KI for the main steam line break accident (MSLB), control rod drop accident (CRDA), and fuel handling accident (FHA). Therefore, the proposed change does not involve a significant decrease in the margin of safety.

The NRC staff finds that, on the basis discussed above, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example, in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room (PDR), located at One White Flint North, Public File Area O1 F21, 11555 Rockville Pike (first floor), Rockville, Maryland.

The filing of requests for hearing and petitions for leave to intervene is discussed below.

Within 60 days after the date of publication of this notice, the person(s) may file a request for a hearing with respect to issuance of the amendment to the subject facility operating license and any person(s) whose interest may be affected by this proceeding and who wishes to participate as a party in the proceeding must file a written request via electronic submission through the NRC E-filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted, with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner/requestor must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated on August 28, 2007 (72 FR 49139). The E-Filing process requires participants to submit and serve documents over the internet or in some cases to mail copies on electronic storage media. Participants may not submit paper copies of their filings unless they seek a waiver in accordance with the procedures described below.

To comply with the procedural requirements of E-Filing, at least ten (10) days prior to the filing deadline, the petitioner/ requestor must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html. Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://www.ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, Participants are requested not to include copyrighted materials in their submissions.

For further details with respect to this license amendment application, see the application for amendment dated August 29, 2006, as supplemented November 6, November 27, 2006, January 30, June 22, July 16, August 13, October 18, December 11, 2007, January 24, February 4, February 25 (two letters, nos. 1389 and 0175), February 27, March 13, April 1, May 5, June 25, July 2, and July 14, 2008, which is available for public inspection at the Commission's PDR, located at One White Flint North, File Public Area O1 F21, 11555 Rockville Pike (first floor), Rockville, Maryland. Publicly available records will be accessible electronically from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 14th day of July 2008.
For the Nuclear Regulatory Commission.
R. E. Martin,
Senior Project Manager, Plant Licensing Branch II-1, Division of Operating Reactor Licensing, Office of Nuclear Reactor Regulation.

[FR Doc. E8-16908 Filed 7-22-08; 8:45 am]

BILLING CODE 7590-01-P